DEPARTMENT OF ENERGY

Federal Energy Regulatory Commission

[Docket No. EC00-131-000, et al.]

Edison Sualt Electric Company, et al; Electric Rate and Corporate Regulation Filings

September 5, 2000.

Take notice that the following filings have been made with the Commission:

1. Edison Sault Electric Company

[Docket No. EC00-131-000]

Take notice that on August 28, 2000, Edison Sault Electric Company filed with the Federal Energy Regulatory Commission the Application of Edison Sault Electric Company for Authorization to Transfer Jurisdictional Transmission Assets Pursuant to Section 203 of the Federal Power Act.

Comment date: September 18, 2000, in accordance with Standard Paragraph E at the end of this notice.

2. City of Vernon, California

[Docket No. EL00-105-000]

Take notice that on August 30, 2000, the City of Vernon, California (Vernon) submitted a Petition for a Declaratory Order determining that Vernon's proffered Transmission Revenue Requirement (TRR) is appropriate under the California Independent System Operator Corporation's FERC Electric Tariff for purposes of Vernon's becoming a participating transmission owner.

Comment date: September 29, 2000, in accordance with Standard Paragraph E at the end of this notice.

3. Arkansas Electric Cooperative Corporation Complainant, v. Entergy Services, Inc. Respondent

[Docket No. EL00-106-000]

Take notice that on September 1, 2000, Arkansas Electric Cooperative Corporation (AECC) tendered for filing a Complaint against Entergy Services, Inc., (ESI).

In its Complaint, AECC alleges that ESI's annual informational filing submitted in Docket No. ER00-2415-000 pursuant to a partial settlement in Docket No. ER98-112-000 containing ESI's 2000 rate redetermination update (2000 Update) for its OATT is incomplete. Consequently, pursuant to the terms of the partial settlement in Docket No. ER98-112-000, AECC requests that the Commission not allow ESI's 2000 Update to be considered final and not subject to refund until at least 120 days after ESI submits the data necessary to accurately complete its 2000 Update.

Comment date: September 25, 2000, in accordance with Standard Paragraph E at the end of this notice. Answers to the compliant shall also be filed on or before September 25, 2000.

4. Central Hudson Gas & Electric Corporation; Consolidated Edison Company of New York, Inc.; Long Island Light Company; New York State Electric & Gas Corporation; Niagara Mohawk Power Corporation; Power Authority of the State of New York; Orange and Rockland Utilities, Inc.; Rochester Gas and Electric Corporation; New York Power Pool

[Docket No. ER97-1523-053]

Take notice that on August 30, 2000, the Members of the Transmission Owners Committee of the Energy Association of New York State, formerly known as the Member Systems of the New York Power Pool (Member Systems), tendered for filing certain revised tariff sheets to their NYISO Open Access Transmission Tariff and NYISO Services Tariff. These tariff sheets are submitted in compliance with the Commission's July 31, 2000 order in this proceeding. Central Hudson Gas & Electric Corp., et al., 92 FERC ¶61,128 (2000).

The Member Systems request that the above-referenced tariff sheets become effective on September 1, 2000.

A copy of this filing was served upon all persons on the Commission's official service list(s) in the captioned proceeding(s), and the respective electric utility regulatory agencies in New York, New Jersey and Pennsylvania.

Comment date: September 20, 2000, in accordance with Standard Paragraph E at the end of this notice.

5. Kansas Gas & Electric Company

[Docket No. ER00-3555-000]

Take notice that on August 30, 2000, Kansas Gas & Electric Company (KGE), tendered for filing a change in its Federal Power Commission Electric Service Tariff No. 93. KGE states that the change is to reflect the amount of transmission capacity requirements required by Western Resources, Inc. (WR) under Service Schedule M to FPC Rate Schedule No. 93 for the period from June 1, 2000 through May 31, 2001.

KGE requests an effective date of June 1, 2000.

Notice of the filing has been served upon the Kansas Corporation Commission.

Comment date: September 20, 2000, in accordance with Standard Paragraph E at the end of this notice.

6. PacifiCorp

[Docket No. ER00-3556-000]

Take notice that on August 30, 2000, PacifiCorp, tendered for filing in accordance with 18 CFR 35 of the Commission's Rules and Regulations, Long-term Firm Point-to-Point Transmission Service Agreements with the Idaho Power Company (Idaho) under PacifiCorp's FERC Electric Tariff, First Revised Volume No. 11 (Tariff).

Copies of this filing were supplied to the Washington Utilities and Transportation Commission and the Public Utility Commission of Oregon.

Comment date: September 20, 2000, in accordance with Standard Paragraph E at the end of this notice.

7. Entergy Services, Inc.

[Docket No. ER00-3557-000]

Take notice that on August 30, 2000, Entergy Services, Inc. (Entergy Services), acting as agent for Entergy Arkansas, Inc., Entergy Gulf States, Inc., Entergy Louisiana, Inc., Entergy Mississippi, Inc., and Entergy New Orleans, Inc., tendered for filing notice of cancellation of the Non-firm Point-To-Point Transmission Service Agreement, dated February 1, 1997, between Entergy Services and Sonat Power Marketing, L.P. (now known as El Paso Merchant Energy L.P.).

Comment date: September 20, 2000, in accordance with Standard Paragraph E at the end of this notice.

8. Pennsylvania Electric Company

[Docket No. ER00-3558-000]

Take notice that on August 30, 2000, Pennsylvania Electric Company (Penelec) (doing business as GPU Energy), tendered for filing a Notice of Cancellation of the following service agreements:

1. Pennsylvania Electric Company, FERC Electric Rate Schedule No. 91 (Borough of Butler, New Jersey (Butler))

2. Pennsylvania Electric Company, FERC Electric Rate Schedule No. 92 (Borough of Pemberton, New Jersey (Pemberton))

3. Pennsylvania Electric Company, FERC Electric Rate Schedule No. 93 (Borough of Seaside Heights (Seaside Heights))

4. Pennsylvania Electric Company, FERC Electric Rate Schedule No. 94 (Borough of Madison, New Jersey (Madison))

5. Pennsylvania Electric Company, FERC Electric Rate Schedule No. 95 (Borough of Lavallette, New Jersey (Lavallette))

Penelec requests that cancellation be effective the June 1, 1999.

Comment date: September 20, 2000, in accordance with Standard Paragraph E at the end of this notice.

9. Consumers Energy Company

[Docket No. ER00-3559-000]

Take notice that on August 30, 2000, Consumers Energy Company (Consumers), tendered for filing a revision to the annual charges due Consumers from Northern Indiana Public Service Company (Northern), under the terms of the Barton Lake-Batavia Interconnection Facilities Agreement (designated Consumers Energy Company Electric Rate Schedule FERC No. 44).

The revised charges are provided for in Subsection 1.043 of the Agreement, which provides that the annual charges may be redetermined effective May 1 of each year. As a result of the redetermination, the monthly charges to be paid by Northern were increased from $14,923 to $16,099.

Consumers requests an effective date of May 1, 2000, and therefore requests waiver of the Commission's notice requirements.

Copies of the filing were served upon Northern, the Michigan Public Service Commission and the Indiana Utility Regulatory Commission.

Comment date: September 20, 2000, in accordance with Standard Paragraph E at the end of this notice.

10. WPS Resources Operating Companies

[Docket No. ER00-3560-000]

Take notice that on August 30, 2000, WPS Resources Operating Companies (WPS), tendered for filing executed service agreements with Manitowoc Public Utilities (Manitowoc) and Consolidated Water Power Company (CWP) for ancillary services under WPS's open access transmission tariff, FERC Electric Tariff, Volume No. 1.

Copies of the filing were served upon Manitowoc, CWP, the Michigan Public Service Commission and the Public Service Commission of Wisconsin.

Comment date: September 20, 2000, in accordance with Standard Paragraph E at the end of this notice.

11. Arizona Public Service Company

[Docket No. ER00-3561-000]

Take notice that on August 30, 2000, Arizona Public Service Company (APS), tendered for filing Service Agreements to provide Long-Term Firm Point-to-Point Transmission Service to Panda Gila River, L.P. under APS' Open Access Transmission Tariff.

A copy of this filing has been served Panda Gila River, L.P. and the Arizona Corporation Commission.

Comment date: September 20, 2000, in accordance with Standard Paragraph E at the end of this notice.

12. Calpine Energy Services, L.P.

[Docket No. ER00-3562-000]

Take notice that on August 30, 2000, Calpine Energy Services, L.P. (CES), tendered for filing under Section 205 of the Federal Power Act, a request for authorization to sell electricity at market-based rates under the market-based tariff that will be transferred to CES by its affiliate, Calpine Power Services Company, as part of an intra-corporate Reorganization.

Comment date: September 20, 2000, in accordance with Standard Paragraph E at the end of this notice.

13. Midwest Energy, Inc.

[Docket No. ER00-3570-000]

Take Notice that on August 29, 2000, Midwest Energy, Inc. (Midwest), tendered for filing with the Federal Energy Regulatory Commission the Service Agreement for Market-Based Sales Service entered into between Midwest and The British Columbia Power Exchange Corporation.

Midwest states that it is serving copies of the instant filing to its customers, State Commissions and other interested parties.

Comment date: September 19, 2000, in accordance with Standard Paragraph E at the end of this notice.

14. Midwest Energy, Inc.

[Docket No. ER00-3571-000]

Take notice that on August 29, 2000, Midwest Energy, Inc. (Midwest), tendered for filing with the Federal Energy Regulatory Commission the Service Agreement for Market-Based Sales Service entered into between Midwest and Western Area Power Administration.

Midwest states that it is serving copies of the instant filing to its customers, State Commissions and other interested parties.

Comment date: September 19, 2000, in accordance with Standard Paragraph E at the end of this notice.

15. Central Vermont Public Service Corporation

[Docket No. ER00-3554-000]

Take notice that on August 30, 2000, Central Vermont Public Service Corporation tendered for filing executed versions of its Network Integration Service Agreement and Network Operating Agreement with the Village of Ludlow Electric Light Department (Ludlow) and the Village of Hyde Park Water and Light Department (Hyde Park) under FERC Electric Tariff, First Revised Volume No. 7. These agreements were previously accepted by the Commission in unexecuted form in Docket No. ER00-1317-000.

Copies of the filing were served upon Ludlow, Hyde Park and the Vermont Public Service Board.

Comment date: September 20, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-23438 Filed 9-12-00; 8:45 am]

BILLING CODE 6717-01-P